DEPARTMENT OF DEFENSE

GENERAL SERVICES ADMINISTRATION

NATIONAL AERONAUTICS AND SPACE ADMINISTRATION

48 CFR Chapter 1

[Docket No. FAR 2014-0052, Sequence No. 1]

Federal Acquisition Regulation; Federal Acquisition Circular 2005-73; Small Entity Compliance Guide

AGENCIES: Department of Defense (DoD), General Services Administration (GSA), and National Aeronautics and Space Administration (NASA).

ACTION: Small Entity Compliance Guide.

SUMMARY: This document is issued under the joint authority of DOD, GSA, and NASA. This Small Entity Compliance Guide has been prepared in accordance with section 212 of the Small Business Regulatory Enforcement Fairness Act of 1996. It consists of a summary of the rules appearing in Federal Acquisition Circular (FAC) 2005-73, which amends the Federal Acquisition Regulation (FAR). An asterisk (*) next to a rule indicates that a regulatory flexibility analysis has been prepared. Interested parties may obtain further information regarding these rules by referring to FAC 2005-73, which precedes this document. These documents are also available via the Internet at http://www.regulations.gov.

DATES: April 29, 2014.

FOR FURTHER INFORMATION CONTACT: For clarification of content, contact the analyst whose name appears in the table below. Please cite FAC 2005-73 and the FAR case number. For information pertaining to status or publication schedules, contact the Regulatory Secretariat at 202-501-4755.

Rules Listed in FAC 2005-73
Item | Subject | FAR Case | Analyst
I | Positive Law Codification of Title 41 | 2011-018 | Chambers.
II | Technical Amendment

SUPPLEMENTARY INFORMATION: Summaries for each FAR rule follow. For the actual revisions and/or amendments made by these FAR cases, refer to the specific item numbers and subjects set forth in the documents following these item summaries. FAC 2005-73 amends the FAR as specified below:

Item I—Positive Law Codification of Title 41 (FAR Case 2011-018)

This final rule amends the Federal Acquisition Regulation (FAR) to conform references throughout the FAR to the new Positive Law Codification of Title 41, United States Code, “Public Contracts” and other conforming changes. The new codification of Title 41 was enacted on January 4, 2011, under Public Law 111-350. Additionally, the rule completes the implementation of the recodification of Title 40. The codifications reorganized and renumbered the statutes, but did not change the meaning or legal effect.

A table at FAR 1.110 provides the popular names of Acts, the present statutory citation, and the new titles of the statutes. For example the “Service Contract Act of 1965” is now the “Service Contract Labor Standards statute”.

The rule does not have a significant effect beyond the internal operating procedures of the Government, and consequently does not have a significant cost or administrative impact on entities either large or small.

Item II—Technical Amendments

Editorial changes are made at FAR 9.105-2, 9.203, 11.201, 52.203-17, 52.208-8, 52.211-2, and 52.212-1.

Dated: April 11, 2014.
William Clark,
Acting Director, Office of Government-wide Acquisition Policy, Office of Acquisition Policy, Office of Government-wide Policy.

[FR Doc. 2014-08746 Filed 4-28-14; 8:45 am]

BILLING CODE 6820-EP-P